DEPARTMENT OF TRANSPORTATION

Federal Aviation Administration

14 CFR Part 71

Proposed Modification of Class C Airspace at Ted Stevens Anchorage International Airport, AK (PANC); Public Meeting

AGENCY: Federal Aviation Administration (FAA), DOT

ACTION: Notice of meeting.

SUMMARY: This document announces a fact-finding informal airspace meeting regarding a plan to amend Class C airspace at Ted Stevens Anchorage International Airport, AK (PANC). The purpose of the meeting is to solicit aeronautical comments on the proposal's effects on local aviation operations. All comments received from the public during this meeting and the subsequent comment period will be considered prior to the revision or issuance of any notice of proposed rulemaking (NPRM) on this matter. DATES: Two meeting opportunities will be held virtually. The first will be on Tuesday, September 23, 2025, from 5:00 p.m. to 7:00 p.m. (Alaska Standard Time), and the second will be on Wednesday, September 24, 2025, from 1:00 p.m. to 3:00 p.m. (Alaska Standard Time). Comments must be received on or before October 24, 2025.

ADDRESSES: Comments: Send comments on the proposal to: Byron G Chew, Group Manager, Operations Support Group, Western Service Center, Air Traffic Organization, Federal Aviation Administration, 2200 S 216th St., Des Moines, WA 98198 or via email to: 9-AJO-ATAAPS-Airspace@faa.gov—Note: Please include “ANC Class C” in the email subject line.

FOR FURTHER INFORMATION CONTACT: Brian Ochs, Team Manager, Western Service Center, Mission Support Services, Federal Aviation Administration, 2200 S 216th St., Des Moines, WA 98198. Telephone Number 206-231-2264, Email: 9-AJO-ATAAPS-Airspace@faa.gov.

SUPPLEMENTARY INFORMATION:

Meeting Procedures

The meeting will provide interested parties with an opportunity to present views, recommendations, and comments on the proposed airspace. This will be a virtual informal airspace meeting using the Zoom teleconferencing tool. The meeting will also be recorded and available to watch on the FAA YouTube channel.

(a) Registration: To attend the meeting on September 23, 2025, the public can register here: https://airportnetwork.zoom.us/webinar/register/WN_OexfJCRtQ7uhClNvgKalkA. To attend the meeting on September 24, 2025, the public can register here: https://airportnetwork.zoom.us/webinar/register/WN_P8ziBn0zTSCsaF1qs9u_9g.

(b) The meeting will be open to all persons on a space-available basis. There will be no admission fee or other charge to attend and participate. The meeting will be informal in nature and will be conducted by one or more representatives of the FAA Western Service Area.

(c) Each participant will be given an opportunity to deliver comments or make a presentation, although a time limit may be imposed to accommodate closing times. Only comments concerning the plan to amend the Ted Stevens Anchorage International Airport Class C airspace area will be accepted.

(d) Each person wishing to make a presentation will be asked to note their intent when registering for the meeting so those time frames can be established. This meeting will not be adjourned until everyone registered to speak has had an opportunity to address the panel. This meeting may be adjourned at any time if all persons present have had an opportunity to speak.

(e) Position papers or other handout material relating to the substance of the meeting will be accepted. Participants submitting papers or handout materials should send them to the mail or email address noted in the ADDRESSES section above. Such material must be received on or before September 15, 2025, comment deadline noted in the DATES section above.

(f) This meeting will be formally recorded and available on the FAA YouTube channel. A summary of the comments made at the meeting will be filed in the rulemaking docket.

Information gathered through this meeting will assist the FAA in drafting an NPRM that would be published in the Federal Register. The public will be afforded the opportunity to comment on any NPRM published on this matter.

A graphic depiction of the proposed airspace modifications may be viewed at the following URL: https://www.faa.gov/about/office_org/headquarters_offices/ara/alaskan_region/ataaps.

Agenda for the Meeting

• Presentation of Meeting Procedures

• Informal Presentation of the proposed amendment to the Class C Airspace proposal

• Public Presentations

• Discussions and Questions

• Closing Comments

Authority: 49 U.S.C. 106(f), 106(g), 40103, 40113, 40120; E.O.10854, 24 FR 9565, 3 CFR, 1959-1963 Comp., p. 389.

Issued in Washington, DC, on August 8, 2025.
Brian Eric Konie,
Acting Manager, Rules and Regulations Group.

[FR Doc. 2025-15300 Filed 8-11-25; 8:45 am]

BILLING CODE 4910-13-P